DEPARTMENT OF DEFENSE

Department of the Navy

Information on Surplus Land at a Military Installation Designated for Disposal: Naval Weapons Station Seal Beach Detachment, Concord, CA

AGENCY: Department of the Navy, DoD.

ACTION: Notice.

SUMMARY: This notice provides information on the surplus property at Naval Weapons Station Seal Beach Detachment, Concord, CA.

FOR FURTHER INFORMATION CONTACT: Ms. Kimberly Kesler, Director, Base Realignment and Closure Program Management Office, 1455 Frazee Road, San Diego, CA 92108-4310, telephone 619-532-0993; or Ms. Laura Duchnak, Director, Base Realignment and Closure Program Management Office, West, 1455 Frazee Road, San Diego, CA 92108-4310, telephone 619-532-0994.

SUPPLEMENTARY INFORMATION: In 2005, Naval Weapons Station Seal Beach Detachment, Concord, CA, was designated for closure under the authority of the Defense Base Closure and Realignment Act of 1990, Public Law 101-510, as amended (the Act). Pursuant to this designation, on January 23, 2006, land and facilities at this installation were declared excess to the Department of the Navy (DON) and available to other Department of Defense components and other Federal agencies. The DON has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at Naval Weapons Station Seal Beach Detachment, Concord, CA, is published in the Federal Register

Redevelopment Authority. The Local Redevelopment Authority (LRA) for the Naval Weapons Station Seal Beach Detachment, Concord, CA, is the City of Concord. The point of contact is Mr. Michael Wright, Reuse Project Director, City of Concord, 1950 Parkside Drive, MS/1B, Concord, CA 94519, telephone 925-671-3019.

Surplus Property Description. The following is a list of the land and facilities at Naval Weapons Station Seal Beach Detachment, Concord, CA, that are surplus to the needs of the Federal Government.

a. Land. Naval Weapons Station Seal Beach Detachment, Concord, CA, consists of approximately 12,882 acres of improved and unimproved fee simple land located within Contra Costa County and the City of Concord. Excluded from this determination of surplus are two parcels of property. The first parcel is approximately 7,791 acres, including six islands. This area will be transferred to the U.S. Army. The second parcel is approximately 63 acres, including approximately 318 residential housing units. This area will be transferred to the U.S. Coast Guard.

In general, the remaining 5,028 acres of property will be available when the installation operationally closes in September 2008.

b. Buildings. The following is a summary of the buildings and other improvements located on the above-described land that will also be available when the installation closes. Property numbers are available on request.

(1) Administrative/Training facilities (5 structures). Comments: Approximately 10,020 square feet.

(2) Inert Storage facilities (13 structures). Comments: Approximately 125,000 square feet. Includes inert storage buildings used to store non-explosive ordnance items and materials.

(3) Paved areas (roads and surface areas). Comments: Approximately 781,519 square yards of roads and other surface areas, i.e., sidewalks, parking lots, etc., including approximately 1,642,212 square feet of airfield runway.

(4) Explosive Ordnance Magazines (217 structures). Comments: Approximately 879,000 square feet. Previously used as ammunition storage, high explosive storage, missile magazines, etc.

(5) Operational and Maintenance facilities (40 structures). Comments: Approximately 150,000 square feet. Includes test buildings, ammunition rework shops, maintenance shops, ancillary personnel support facilities, etc.

(6) Miscellaneous facilities (19 structures). Comments: Approximately 11,567 square feet, including security gatehouses, guard towers, etc.

(7) Rail facilities. Comments: Approximately 55 miles of railroad track and 41 barricaded railroad siding structures.

(8) Utility facilities. Comments: Measuring systems vary; includes gas, telephone, electric, storm drainage, water, sewer, fire protection systems, etc.

Redevelopment Planning. Pursuant to Section 2905 (b)(7)(F) of the Act, the LRA will conduct a community outreach effort with respect to the surplus property, and will publish in a newspaper of general circulation in the communities within the vicinity of Naval Weapons Station Seal Beach Detachment, Concord, CA, the time period during which the LRA will receive notices of interest from State and local governments, representatives of the homeless, and other interested parties. This publication shall include the name, address, telephone number, and the point of contact for the LRA who can provide information on the prescribed form and contents of the notices of interest.

Dated: February 27, 2007.
M.A. Harvison,
Lieutenant Commander, Judge Advocate General's Corps, U.S. Navy, Federal Register Liaison Officer.

[FR Doc. E7-3848 Filed 3-5-07; 8:45 am]

BILLING CODE 3810-FF-P